DEPARTMENT OF COMMERCE

National Oceanic and Atmospheric Administration

[RTID 0648-XE769]

Fisheries of the US Caribbean; Southeast Data, Assessment, and Review (SEDAR); Public Meeting; Cancellation

AGENCY: National Marine Fisheries Service (NMFS), National Oceanic and Atmospheric Administration (NOAA), Commerce.

ACTION: Notice of cancellation; SEDAR 101 Data Workshop for Highly Migratory Species (HMS) Sandbar Sharks.

SUMMARY: The SEDAR 101 assessment process of HMS sandbar sharks will consist of a Data Workshop, an Assessment Workshop and a Center for Independent Experts (CIE) Desk Review. See SUPPLEMENTARY INFORMATION.

DATES: The SEDAR 101 Data Workshop was scheduled for May 12-16, 2025.

ADDRESSES:

Meeting address: The meeting was to be held at the Northeast Fishery Science Center Narraganset Laboratory, 28 Tarzwell Drive, Narragansett, RI 02882.

SEDAR address: 4055 Faber Place Drive, Suite 201, North Charleston, SC 29405.

FOR FURTHER INFORMATION CONTACT: Emily Ott, SEDAR Coordinator; (843) 302-8434; email: Emily.Ott@safmc.net.

SUPPLEMENTARY INFORMATION: The meeting notice published on March 18, 2025 (90 FR 12528). This announces that the meeting is cancelled and will be rescheduled at a later date.

Authority: 16 U.S.C. 1801 et seq.

Dated: March 19, 2025.
Rey Israel Marquez,
Acting Deputy Director, Office of Sustainable Fisheries, National Marine Fisheries Service.

[FR Doc. 2025-04958 Filed 3-21-25; 8:45 am]

BILLING CODE 3510-22-P